ENVIRONMENTAL PROTECTION AGENCY

40 CFR Parts 85, 86, and 600

DEPARTMENT OF TRANSPORTATION

National Highway Traffic Safety Administration

49 CFR Parts 523, 531, 533, 536, and 537

[EPA-HQ-OAR-2010-0799; FRL-9618-5; NHTSA-2010-0131]

RIN 2060-AQ54; RIN 2127-AK79

2017 and Later Model Year Light-Duty Vehicle Greenhouse Gas Emissions and Corporate Average Fuel Economy Standards; Extension of Comment Period

AGENCY: Environmental Protection Agency (EPA) and National Highway Traffic Safety Administration (NHTSA), DOT.

ACTION: Notice of proposed rulemaking; extension of comment period.

SUMMARY: EPA and NHTSA are announcing a 14-day extension of the comment period for the joint proposed rules “2017 and Later Model Year Light-Duty Vehicle Greenhouse Gas Emissions and Corporate Average Fuel Economy Standards,” published in the Federal Register on December 1, 2011 (76 FR 74854). The comment period was to end on January 30, 2012 (60 days after publication of the proposals in the Federal Register). This document extends the comment period to February 13, 2012. This extension of the comment period is provided to allow the public additional time to comment on the proposed rule.

The extension of the comment period does not apply to NHTSA's Draft Environmental Impact Statement (Draft EIS), available on NHTSA's Web site at www.nhtsa.gov/fuel-economy. The comment period for NHTSA's Draft EIS closes on January 31, 2012.

DATES: Written comments must be received on or before February 13, 2012 in order to be considered timely.

ADDRESSES: Submit your comments, identified by Docket ID No. EPA-HQ-OAR-2010-0799 and/or NHTSA-2010-0131, by one of the following methods:

• Online: www.regulations.gov: Follow the on-line instructions for submitting comments.

• Email: a-and-r-Docket@epa.gov.

• Fax: EPA: (202) 566-9744; NHTSA: (202) 493-2251.

• Mail:

○ EPA: Environmental Protection Agency, EPA Docket Center (EPA/DC), Air and Radiation Docket, Mail Code 28221T, 1200 Pennsylvania Avenue NW., Washington, DC 20460, Attention Docket ID No. EPA-HQ-OAR-2010-0799.

○ NHTSA: Docket Management Facility, M-30, U.S. Department of Transportation, West Building, Ground Floor, Rm. W12-140, 1200 New Jersey Avenue SE., Washington, DC 20590.

• Hand Delivery:

○ EPA: Docket Center, (EPA/DC) EPA West, Room B102, 1301 Constitution Ave. NW., Washington, DC, Attention Docket ID No. EPA-HQ-OAR-2010-0799. Such deliveries are only accepted during the Docket's normal hours of operation, and special arrangements should be made for deliveries of boxed information.

○ NHTSA: West Building, Ground Floor, Rm. W12-140, 1200 New Jersey Avenue SE., Washington, DC 20590, between 9 a.m. and 4 p.m. Eastern Time, Monday through Friday, except Federal Holidays.

Instructions: Direct your comments to Docket ID No. EPA-HQ-OAR-2010-0799 and/or NHTSA-2010-0131. See the SUPPLEMENTARY INFORMATION of the proposed rule section on “Public Participation” for more information about submitting written comments.

Docket: All documents in the dockets are listed in the www.regulations.gov index. Although listed in the index, some information is not publicly available, e.g., confidential business information (CBI) or other information whose disclosure is restricted by statute. Certain other material, such as copyrighted material, will be publicly available in hard copy in EPA's docket, and electronically in NHTSA's online docket. Publicly available docket materials are available either electronically in www.regulations.gov or in hard copy at the following locations: EPA: EPA Docket Center, EPA/DC, EPA West, Room 3334, 1301 Constitution Ave. NW., Washington, DC. The Public Reading Room is open from 8:30 a.m. to 4:30 p.m., Monday through Friday, excluding legal holidays. The telephone number for the Public Reading Room is (202) 566-1744. NHTSA: Docket Management Facility, M-30, U.S. Department of Transportation, West Building, Ground Floor, Rm. W12-140, 1200 New Jersey Avenue SE., Washington, DC 20590. The Docket Management Facility is open between 9 a.m. and 5 p.m. Eastern Time, Monday through Friday, except Federal holidays.

FOR FURTHER INFORMATION CONTACT: EPA: Christopher Lieske, Office of Transportation and Air Quality, Assessment and Standards Division, Environmental Protection Agency, 2000 Traverwood Drive, Ann Arbor, MI 48105; telephone number: (734) 214-4584; fax number: (734) 214-4816; email address: lieske.christopher@epa.gov, or contact the Assessment and Standards Division; email address: otaqpublicweb@epa.gov. NHTSA: Rebecca Yoon, Office of the Chief Counsel, National Highway Traffic Safety Administration, 1200 New Jersey Avenue SE., Washington, DC 20590. Telephone: (202) 366-2992. You may learn more about the proposal by visiting NHTSA's or EPA's Web pages at http://www.nhtsa.gov/fuel-economy or http://www.epa.gov/otaq/climate/regulations.htm or by searching the public dockets (NHTSA-2010-0131 (for the proposed rule) or NHTSA-2011-0056 (for the Draft EIS); EPA-HQ-OAR-2010-0799) at www.regulations.gov.

SUPPLEMENTARY INFORMATION: In the NHTSA and EPA proposals for “2017 and Later Model Year Light-Duty Vehicle Greenhouse Gas Emissions and Corporate Average Fuel Economy Standards,” the agencies invited comment from interested parties on all aspects of the proposal. EPA and NHTSA received multiple requests for a 30-day extension of the comment period. Those requests can be found in the dockets for the rulemaking listed above under ADDRESSES. The agencies have considered these requests and believe that a 14-day extension beyond the original 60 days would be sufficient. The agencies note that the proposal was prominently posted and available for public review on each agency's Web site on November 16, 2011. Thus, with a 14-day extension, commenters will have had, as a practical matter, a total of 90 days to review the rulemaking documents. Accordingly, the public comment period for the proposed rules is extended until February 13, 2012. Please see the agencies' discussion regarding consideration of comments received in the Notice of Proposed Rulemaking published in the Federal Register on December 1, 2011 (76 FR 75855-74856) and which is available on NHTSA's Web site at http://www.nhtsa.gov/staticfiles/rulemaking/pdf/cafe/2017-25_CAFE_NPRM.pdf and EPA's Web site at http://www.epa.gov/otaq/climate/regulations.htm. NHTSA and EPA will consider all comments received before the close of business on the comment closing date, and will also consider comments received after that date to the extent practicable.

This extension of the comment period does not apply to NHTSA's Draft Environmental Impact Statement (Draft EIS), available on NHTSA's Web site at www.nhtsa.gov/fuel-economy. The comment period for NHTSA's Draft EIS closes on January 31, 2012.

The joint proposed rules issued by EPA and NHTSA would reduce greenhouse gas emissions and fuel consumption of light-duty vehicles for model years 2017-2025. On May 21, 2010, President Obama issued a Presidential Memorandum requesting that NHTSA and EPA develop through notice and comment rulemaking a coordinated National Program to reduce greenhouse gas emissions and fuel consumption of light-duty vehicles for model years 2017-2025, building upon the success of the agencies' joint rulemaking to establish fuel economy and greenhouse gas emissions standards for model years 2012-2016. The proposal, consistent with the President's request, responds to the country's critical needs to address global climate change and to reduce oil consumption. NHTSA is proposing Corporate Average Fuel Economy standards under the Energy Policy and Conservation Act, as amended by the Energy Independence and Security Act, and EPA is proposing greenhouse gas emissions standards under the Clean Air Act. These standards would apply to passenger cars, light-duty trucks, and medium-duty passenger vehicles, and, if ultimately adopted, would represent a continuation of the harmonized and consistent National Program. EPA is also proposing minor changes to the light-duty vehicle regulations applicable to model years 2012-2016, with respect to air conditioner performance, regulatory treatment of emergency vehicles, and measurement of nitrous oxides.

The proposal for which EPA and NHTSA are extending the comment period was published in the Federal Register on December 1, 2011 (76 FR 74854) and is also available at the Web pages listed above under FOR FURTHER INFORMATION CONTACT and in the rulemaking dockets.

Dated: January 6, 2012.
Ronald Medford,
Deputy Administrator, National Highway Traffic Safety Administration.
Dated: January 6, 2012.
Margo T. Oge,
Director, Office of Transportation and Air Quality, Environmental Protection Agency.

[FR Doc. 2012-617 Filed 1-12-12; 8:45 am]

BILLING CODE 6560-50-P